INTERNATIONAL TRADE COMMISSION

[Investigation Nos. 731-TA-955, 960, 963 (Preliminary) (Third Remand)]

Carbon and Certain Alloy Steel Wire Rod from Egypt, South Africa, and Venezuela

AGENCY: United States International Trade Commission.

ACTION: Notice of remand proceedings.

SUMMARY: The U.S. International Trade Commission (“Commission”) hereby gives notice of the court-ordered remand of its preliminary determinations in the antidumping Investigation Nos. 731-TA-955, 960, 963 concerning carbon and certain alloy steel wire rod from Egypt, South Africa, and Venezuela. For further information concerning the conduct of this proceeding and rules of general application, consult the Commission's Rules of Practice and Procedure, part 201, subparts A through E (19 CFR part 201), and part 207, subpart A (19 CFR part 207).

EFFECTIVE DATE: December 21, 2007.

FOR FURTHER INFORMATION CONTACT: Mary Messer, Office of Investigations, telephone 202-205-3193, or Robin L. Turner, Office of General Counsel, telephone 202-205-3103, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record of Investigation No. 731-TA-1088 may be viewed on the Commission's electronic docket (“EDIS”) at http://edis.usitc.gov.

SUPPLEMENTARY INFORMATION: Background.—In September 2005, the Commission determined on remand that there is no potential that subject imports from South Africa will exceed the applicable individual statutory negligibility threshold of three percent of total wire rod imports in the imminent future, and that with respect to Egypt, South Africa and Venezuela collectively, there is no potential that aggregate subject imports from these countries would exceed seven percent of total wire rod imports in the imminent future. 19 U.S.C. 1677(24). The Court of International Trade (“CIT”) issued an opinion in the matter on January 17, 2007, Co-Steel Raritan, Inc. v. United States, Slip Op. 07-7 (Ct. Int'l Trade Jan. 17, 2007), and an order on November 8, 2007, Gerdau Ameristeel U.S. Inc. v. United States International Trade Commission, Slip Op. 07-165 (Ct. Int'l Trade Nov. 8, 2007), remanding the matter to the Commission for further proceedings not inconsistent with its opinion.

Participation in the proceeding.—Only those persons who were interested parties to the original investigation (i.e., persons listed on the Commission Secretary's service list) and were parties to the appeal may participate in the remand proceeding. Such persons need not re-file their appearance notices or protective order applications to participate in the remand proceeding. Business proprietary information (“BPI”) referred to during the remand proceeding will be governed, as appropriate, by the administrative protective order issued in the original investigation.

Written submissions.—The Commission is reopening the record in this proceeding for the limited purpose of seeking new factual information regarding South African producers of steel wire rod that did not respond in the original investigation. In addition, the Commission will permit the parties to file comments pertaining to the inquiries that are the subject of the CIT's remand instructions and any new factual information. Comments should be limited to no more than twenty (20) double-spaced and single-sided pages of textual material. The parties may not submit any new factual information in their comments and may not address any issue other than the inquiries that are the subject of the CIT's remand instructions. Any such comments must be filed with the Commission no later than January 29, 2008.

All written submissions must conform with the provisions of section 201.8 of the Commission's rules; any submissions that contain BPI must also conform with the requirements of sections 201.6, 207.3, and 207.7 of the Commission's rules. The Commission's rules do not authorize filing of submissions with the Secretary by facsimile or electronic means, except to the extent permitted by section 201.8 of the Commission's rules, as amended, 67 FR 68036 (Nov. 8, 2002).

In accordance with sections 201.16(c) and 207.3 of the Commission's rules, each document filed by a party to the investigation must be served on all other parties to the investigation (as identified by either the public or BPI service list), and a certificate of service must be timely filed. The Secretary will not accept a document for filing without a certificate of service.

Parties are also advised to consult with the Commission's Rules of Practice and Procedure, part 201, subparts A through E (19 CFR part 201), and part 207, subpart A (19 CFR part 207) for provisions of general applicability concerning written submissions to the Commission.

By order of the Commission.
Issued: December 21, 2007.
Marilyn R. Abbott,
Secretary to the Commission.

[FR Doc. E7-25236 Filed 12-27-07; 8:45 am]

BILLING CODE 7020-02-P